DEPARTMENT OF ENERGY

National Petroleum Council; Notice of Renewal

AGENCY: Office of Fossil Energy, Department of Energy.

ACTION: Notice of renewal.

SUMMARY: Pursuant to the Federal Advisory Committee Act and in accordance with Title 41 of the Code of Federal Regulations, section 102.3.65, and following consultation with the Committee Management Secretariat, General Services Administration, notice is hereby given that the National Petroleum Council has been renewed for a two-year period.

The Council will continue to provide advice, information, and recommendations to the Secretary of Energy on matters relating to oil and natural gas, and the oil and natural gas industries. The Secretary of Energy has determined that renewal of the National Petroleum Council is essential to the conduct of the Department's business and in the public interest in connection with the performance of duties imposed by law upon the Department of Energy. The Council will continue to operate in accordance with the provisions of the Federal Advisory Committee Act (Pub. L. 92-463), the General Services Administration Final Rule on Federal Advisory Committee Management, and other directives and instructions issued in implementation of those Acts.

FOR FURTHER INFORMATION CONTACT: Ms. Nancy Johnson at (202) 586-6458

Issued at Washington, DC on January 8, 2018.
Wayne D. Smith,
Committee Management Officer.

[FR Doc. 2018-00777 Filed 1-17-18; 8:45 am]

BILLING CODE 6450-01-P